DEPARTMENT OF THE INTERIOR

National Park Service

Final Environmental Impact Statement/General Management Plan Lassen Volcanic National Park Lassen, Plumas, Shasta, Tehama Counties, CA; Notice of Availability

SUMMARY: Pursuant to § 102 (2) © of the National Environmental Policy Act of 1969 (Pub.L. 91-190 as amended), the National Park Service, Department of the Interior, has prepared a Final Environmental Impact Statement identifying four alternatives for (and assessing the potential impacts of) a proposed General Management Plan for Lassen Volcanic National Park, located in northeastern California. Upon approval, the new General Management Plan will serve as a “blueprint” for the management and use of Lassen Volcanic National Park over the next 10-15 years.

Proposal and Alternatives Considered

The “no action” alternative, Alternative A, assumes that physical facilities and ongoing activities would remain largely unchanged, and that staffing and operational funding would remain constant over the planning period.

Alternative B: Resource Preservation and Basic Visitor Service, provides a program for preserving, and where necessary, restoring significant park resources. It includes essential staffing and funding increases for the park's cultural and natural resource management functions, restores key elements of the park's infrastructure, provides for restoration of several specific sites with natural system conflicts, establishes a standards-based management zoning system, and proposes designation of approximately 25,000 acres as part of the National Wilderness Preservation System (increasing the total amount of designated Wilderness to approximately 104,000 acres). The plan also includes program increases and visitor facility improvements to provide for quality basic visitor service.

Alternative C: The Proposed General Management Plan—Resource Protection and Enhanced Visitor Experience. This plan includes all the features of Alternative B, and provides enhancement to visitor experience by making more facilities available during winter months, and increasing interpretive services, facilities, and information.

Alternative D: Resource Protection and Expanded Visitor Opportunities, includes all of the features of Alternative C and, in addition, provides for expansion of family and group campgrounds at several locations. It also expands winter access at the north entrance by plowing the park road an additional 9 miles to the Devastated Area, and keeping one loop of the campground open for winter camping.

Significant adverse environmental impacts and potential impairment of park values would be expected to result from Alternative A as a number of cultural, natural, and environmental resources are undergoing deterioration under current conditions. All of the action alternatives include programs to arrest the deterioration of resources and mitigation features to avoid or reduce impacts, which might ensue from implementation of project features. It was determined that the “environmentally preferred” alternative is Alternative C.

Public Comment

A Notice of Intent to prepare an EIS was published in the Federal Register on July 24, 1998. During the subsequent scoping phase leading to development of the Draft EIS, the NPS conducted seven public meetings, three agency meetings, and several Tribal meetings. In all, information provided by 120 commentors and 49 letters was obtained. A Notice of Availability of the Draft EIS was published in the Federal Register on August 18, 2000. During the subsequent public comment period, seven public workshops were conducted and over 650 copies of the Draft EIS were distributed. Throughout the process contacts were undertaken with Tribes, the State Historic Preservation Office, U.S. Forest Service, the four surrounding County Boards of Supervisors, and other entities. Altogether 189 comment letters were received; these as well as the responses obtained during the scoping phase are filed in the administrative record.

Copies

Inquiries and requests for printed copies of the final EIS for the proposed General Management Plan may be directed to Superintendent, Lassen Volcanic National Park, P.O. Box 100, Mineral, California 96063-0100, or via telephone at (530) 595-4444 ext.5101. Public review copies will also be available at area libraries.

During the Ano action” period following release of the Final EIS, if any individuals submit comments and request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

A Record of Decision may be approved by the Regional Director, Pacific West Region, no sooner than 30 days after publication of a Notice of filing of this Final EIS in the Federal Register by the Environmental Protection Agency. The official responsible for the final decision is the Regional Director, Pacific West Region; subsequently the official responsible for implementation of the plan is the Superintendent, Lassen Volcanic National Park.

Dated: October 25, 2001.
Martha K. Leicester,
Acting Regional Director, Pacific West Region.

[FR Doc. 01-30336 Filed 12-6-01; 8:45 am]

BILLING CODE 4310-70-P